DEPARTMENT OF TRANSPORTATION

National Highway Traffic Safety Administration

49 CFR Part 571

[Docket No. NHTSA 2013-0003]

RIN 2127-AK42

Federal Motor Vehicle Safety Standards; New Pneumatic and Certain Specialty Tires

AGENCY: National Highway Traffic Safety Administration (NHTSA), Department of Transportation (DOT).

ACTION: Final rule.

SUMMARY: This final rule amends Federal Motor Vehicle Safety Standard (FMVSS) No. 109, New pneumatic and certain specialty tires, to change the test pressure for the physical dimensions test for T-type tires (temporary use spare tires) from 52 pounds per square inch (psi) to 60 psi. This increase in test pressure for the physical dimensions test will marginally increase the stringency of the test and will align FMVSS No. 109 with international and voluntary consensus standards.

DATES: This final rule is effective July 16, 2013. Optional early compliance is permitted immediately. Petitions for reconsideration: If you wish to petition for reconsideration of this rule, your petition must be received by March 4, 2013.

ADDRESSES: If you submit a petition for reconsideration of this rule, you should refer in your petition to the docket number of this document and submit your petition to: Administrator, National Highway Traffic Safety Administration, 1200 New Jersey Avenue SE., West Building, Washington, DC 20590.

The petition will be placed in the public docket. Anyone is able to search the electronic form of all documents received into any of our dockets by the name of the individual submitting the document (or signing the document, if submitted on behalf of an association, business, labor union, etc.). You may review DOT's complete Privacy Act Statement in the Federal Register published on April 11, 2000 (Volume 65, Number 70; Pages 19477-78).

FOR FURTHER INFORMATION CONTACT: Marisol B. Medri, NHTSA Office of Rulemaking, telephone 202-366-2720, fax 202-493-2739. For legal issues, you may call David Jasinski, NHTSA Office of Chief Counsel, telephone 202-366-2992, fax 202-366-3820. You may send mail to these officials at the National Highway Traffic Safety Administration, 1200 New Jersey Avenue SE., West Building, Washington, DC 20590.

SUPPLEMENTARY INFORMATION:

I. Background

a. T-Type Spare Tires

NHTSA regulates “T-type” spare tires under FMVSS No. 109, New pneumatic and certain specialty tires. A “T-type” spare tire refers to a type of spare tire that is manufactured to be used as a temporary substitute by the consumer for a conventional tire that failed. For T-type spare tires, FMVSS No. 109 specifies tire dimensions and laboratory test requirements for bead unseating resistance, strength, endurance, and high speed performance. The standard also defines tire load ratings and specifies labeling requirements for the tires.

NHTSA amended FMVSS No. 109 to permit the manufacture of T-type (then known as “60-psi”) spare tires in 1977, describing them as “differ[ing] substantially in specification and construction from conventional tires. * * * [with] a higher inflation pressure (60 psi), different dimensions, and a shorter treadwear life than conventional tires.” ¹ The agency also adopted endurance and high-speed performance tests, strength requirements, a resistance to bead unseating test, and a physical dimensions test, which were appropriate for the temporary use tires.

¹ 42 FR 12869, 12870 (March 7, 1977).

b. Physical Dimensions Test

The purpose of the physical dimensions test is to measure the tire's growth under inflated conditions and to determine if it is within allowable growth limits. If a tire exceeds allowable growth limits in the physical dimensions test, that indicates that there could be a safety risk from that tire's not matching well with its rim, or not fitting well with the vehicle to which it is attached. Either of these mismatches could present safety risks.

All T-type tires must comply with growth limits as specified by S4.2.2.2 of FMVSS No. 109, which states that the tire's actual section width and overall width may not exceed the specified section width ² by more than 7 percent or 10 millimeters (0.4 inches), whichever is greater. The “section width” of a tire is defined in S3 of FMVSS No. 109 as “the linear distance between the exteriors of the sidewalls of an inflated tire, excluding elevations due to labeling, decoration, or protective bands.”

² S4.2.2.2 states that the measured section width “shall not exceed the section width specified in a submission made by an individual manufacturer, pursuant to S4.4.1(a) or in one of the publications described in S4.4.1(b) for its size designation and type * * *.” (Emphasis added.) The “publications described in S4.4.1(b)” refer to the year books published by various tire manufacturer associations, such as T&RA. As a practical matter, individual tire manufacturers generally submit section width information to associations like T&RA for inclusion in the year books, rather than submitting such information directly to NHTSA, although FMVSS No. 109 allows the latter option.

The test procedure for the physical dimensions test is specified in S5.1 of FMVSS No. 109. That section states that the tire is mounted on the appropriate test rim and inflated to the pressure listed in Table II of the standard, which for 60-psi tires is 52 psi. The tire is then conditioned at ambient temperature for 24 hours, at which point the inflation is checked and adjusted back to 52 psi if necessary, and then the tire is measured.

c. Test Pressure

NHTSA requires tire manufacturers to specify both a “recommended” pressure and a “maximum permissible inflation pressure.” The recommended inflation pressure is the operational inflation pressure needed to support the weight of the vehicle when loaded to its gross vehicle weight rating. The maximum permissible inflation pressure, which is required to be molded on the tire's sidewall, is the maximum pressure beyond which the tire should not be inflated. Usually, a manufacturer's recommended inflation pressure is lower than the tire's maximum pressure labeled on the tire sidewall.

Since most tires have a recommended inflation pressure that is lower than the specified maximum pressure for the tire, the test pressure that NHTSA uses to test tires dynamically on a test wheel is generally lower than the maximum pressure labeled on the sidewall. Further, tires may be operated at some level of under-inflation during normal service. To reflect this real-world use, FMVSS No. 109's dynamic test procedures generally specify under-inflating a tire when testing the tire on the road-wheel. Moreover, dynamic tests are more stringent when the tire is tested at an inflation pressure lower than the pressure required to support the given test load. Under-inflating a tire eventually results in greater heat build-up due to over-deflection of a tire's sidewall, which increases the likelihood of tire failure.

Consistent with this approach, in the 1977 final rule, NHTSA determined that T-type (60 psi) tires should be tested in all of the FMVSS No. 109 tests at a test pressure lower than the tire's maximum permissible inflation pressure of 60 psi. For the physical dimensions test, the agency determined that a 52-psi value reflects an operational inflation pressure appropriate for use in the test. The 52-psi maximum permissible inflation pressure adopted in 1977 has not been changed since that final rule.

d. Tire & Rim Association Petition

In a July 13, 2007 petition, the Tire & Rim Association (T&RA) ³ requested that the agency make a “technical correction” ⁴ to Table II of FMVSS No. 109 regarding T-type tires. Specifically, T&RA requested that “the inflation pressure for the measurement of physical dimensions in Table II be changed from 52 psi to 60 psi.” T&RA stated that “There is only one application inflation pressure for T-type tires, 60 psi,” and that therefore “this is the appropriate pressure for the subject measurement.” The petitioner also stated that the inflation pressure for the bead unseating, tire strength, and tire endurance test should remain at 52 psi.

³ T&RA is a technical standardizing body of the tire, rim, valve, and allied part manufacturers in the United States.

⁴ The agency believes that the petition should be addressed by this notice and comment rulemaking rather than by way of a technical correction.

II. Summary of the NPRM

In a notice of proposed rulemaking (NPRM) published on October 30, 2009,⁵ NHTSA proposed to grant T&RA's petition and increase the test pressure used for the physical dimensions test from 52 psi to 60 psi. Although we agreed that raising the inflation pressure for the physical dimensions test was appropriate, we did not agree with T&RA's reasoning. Instead, we proposed to raise the inflation pressure for two other reasons. First, we tentatively concluded that raising the inflation pressure makes engineering sense because doing so would raise the stringency of the test under conditions that are within the realm of real world use, since it was conceivable that the tires would be operated at 60 psi (which is the pressure assigned the tire by the tire manufacturer). Second, we tentatively concluded that raising the test pressure will align FMVSS No. 109 with the European and Japanese regulations that cover T-type tires. The European and Japanese regulations both specify an inflation pressure of 4.2 bar or 420 kPa (which is the metric equivalent of 60 psi) ⁶ for the physical dimensions test.⁷

⁵ 74 FR 56166 (Docket No. NHTSA-2009-0117).

⁶ More precisely, 420 kPa is equal to 60.9 psi. However, when adopting metric conversions in 1998, NHTSA generally favored equivalent conversions over exact ones and favored conversions that were already consistent with established tire industry, European, or other international standards. See 63 FR 28912, 28913 (May 27, 1998).

⁷ See ECE Regulation No. 30, Annex 6, para. 1.2.5, available at http://live.unece.org/fileadmin/DAM/trans/main/wp29/wp29regs/r030r3e.pdf; Automobile Type Approval Handbook for Japanese Certification, Safety Regulations for Road Vehicles, Technical Standards For Pneumatic Tyres For Passenger-Use Motor Vehicles, Annex, 1-2-5.

We believed that existing 60-psi T-type spare tires would be able to pass the amended physical dimensions test. Further, because the request to raise the test pressure for the physical dimensions test came from a tire manufacturer trade association, we believed that the amended test would be practical.

The October 2009 NPRM also proposed other minor changes to FMVSS No. 109:

• The agency proposed deleting references to CT tires.

• The agency proposed revising S4.4.1(b) to update the list of tire industry organizations to make the list consistent with that established in the upgrade of FMVSS No. 139, New pneumatic radial tires for light vehicles.

• The agency proposed to redesignate “Appendix A” as “Appendix” and move it to the end of the standard. The agency also proposed removing references to tables that were no longer set forth in the appendix and updating the address of NHTSA.

III. Comments and Analysis

The agency received three comments in response to the October 2009 NPRM. The comments were submitted by the Alliance of Automobile Manufacturers (Alliance),⁸ Advocates for Highway and Auto Safety (Advocates), and a private citizen (Jonathan David Korhonen).

⁸ The Alliance is a trade association of 11 automobile manufacturers: BMW Group, Chrysler Group LLC, Ford Motor Company, General Motors Company, Jaguar Land Rover, Mazda, Mercedes-Benz USA, Mitsubishi Motors, Porsche, Toyota, and Volkswagen.

The Alliance concurred with the proposals in the NPRM to increase the test pressure of T-type tires from 52 psi to 60 psi for the physical dimensions test, the deletion of references to CT type tires, the revisions to update the list of tire industry organizations, and the redesignation of “Appendix A” as “Appendix” and its relocation to the end of the standard. The Alliance also concurred with the proposed effective date.

Advocates stated that it supports NHTSA's proposal to raise the inflation pressure from 52 psi to 60 psi for the physical dimensions test on T-type tires. Advocates asserted that this will result in a more demanding test that could lead to increased tire quality and integrity during real-world use. Advocates also supported the continued use of a 52 psi inflation pressure for the bead unseating, tire strength, and tire endurance tests because those test pressures represented real-world conditions in which T-type tires would be used while underinflated.

However, Advocates recommended that NHTSA reconsider its continued use of a 58 psi inflation pressure for the high speed performance test. Advocates stated that T-type tires are often stored for long periods of time until an unexpected event leads to their use. Advocates also asserted that, although owners' manuals for passenger motor vehicles advise frequent checking and re-inflation of T-type tires, this is rarely performed, leading to the majority of T-type tires mounted on vehicles being in an underinflated condition. Advocates argued that this problem is further compounded by the majority of motorists who do not carry air pumps to inflate T-type tires to the recommended operating pressure or tire gauges to check the inflation of tired. Further, Advocates noted that the absence of a requirement that T-type tires be equipped with tire pressure monitoring systems (TPMS) further prevents drivers from being notified of underinflated tires. Advocates stated that, by lowering the inflation pressure for the high speed performance test, NHTSA could ensure that T-type tires were better able to withstand higher speeds while underinflated.

NHTSA is making no changes to the proposal in response to Advocates' comment. The agency considers the issues related to the inflation pressure of T-type tires for the high speed performance test to be outside the scope of this rulemaking action.

The agency also addressed the issue of TPMS on spare tires during the rulemaking establishing FMVSS No. 138, Tire pressure monitoring systems.⁹ NHTSA decided not to require TPMS on spare tires (either T-type or full-sized) for two reasons. First, most drivers know that temporary tires are not intended for extended use. Second, T-type tires pose operational problems for both direct and indirect TPMS because the recommended inflation pressure for these tires is considerably different than the pressure for tires used in normal service. The agency also believed a TPMS requirement for spare tires would be a potential disincentive for a vehicle manufacturer to supply a spare tire.

⁹ See 70 FR 18136, 18160 (Apr. 8, 2005); 70 FR 53079, 53088 (Sep. 7, 2005).

The agency also received a comment from a private citizen, Jonathan David Korhonen. Mr. Korhonen questioned how the NPRM would affect the overall cost to manufacture vehicles. He recommended keeping the proposed changes as suggestions and concluded that the changes should not take the place of education for drivers.

In response to Mr. Korhonen's comment, the agency believes that the costs of implementing the proposed changes in the NPRM are near zero. We believe that existing T-type tires are likely to pass the upgraded physical dimensions test.

After careful consideration of all comments received and all issues relevant to the NPRM, the agency has decided to adopt the NPRM as proposed.¹⁰ Raising the test pressure for the physical dimensions test will raise the stringency of the test under conditions that are within the realm of real world use. Further, raising the test pressure is consistent with international harmonization. We believe that existing tires will be able to pass the amended physical dimensions test and that the new test will be practicable. We are also adopting the minor changes to FMVSS No. 109 discussed in the NPRM.

¹⁰ The only change made to the NPRM was the correction of a misspelled word in the Appendix to § 571.109.

Finally, for consistency, we are making three changes to the regulatory text of FMVSS No. 109 that were not included in the NPRM. The agency finds that good cause exists for these amendments to be included in this final rule notwithstanding the fact that they were not included in the October 2009 NPRM because advance public notice would be unnecessary. The specific changes and the basis for the good cause finding are discussed below.

First, we are amending S4.2.2.2(b) to eliminate maximum tire pressures that were used only for the physical dimensions test for CT tires. This is consistent with the proposed amendments, which we are adopting today, to eliminate pressures used for CT tires in S4.2.1(b), S4.3.4, Table I-C, and Table II.

Second, we are further amending S4.2.2.2(b) to correct an error. Although 340 kPa is listed in the maximum tire pressures that are used for conducting the physical dimensions test in Table II, the pressure was inadvertently removed from the list of tire pressures in S4.2.2.2(b) in a prior rulemaking action.¹¹ The inclusion of the 340 kPa maximum tire pressure in Table II and other similar sections that list the permissible maximum tire pressures shows that this omission was unintentional. Thus, advance notice of this correction is unnecessary.

¹¹ An August 1, 1994 final rule adding the 350 kPa maximum pressure for tires other than CT tires removed the 340 kPa test pressure from S4.2.2.2(b). See 59 FR 38938, 38941. This omission was not discussed in the preamble of the final rule. See 59 FR 38938-40. The 340 kPa pressure was included in S4.2.2.2(b) of FMVSS No. 109 prior to the August 1, 1994 amendment. See 49 CFR 571.109, S4.2.2.2(b) (1993). Furthermore, the 340 kPa was not omitted from S4.2.2.2(b) in the November 8, 1993 NPRM that preceded the amendment. See 58 FR 59226, 59228.

Third, we are updating NHTSA's address in S4.4.1(a) to be consistent with the correction to NHTSA's address in Appendix A. This is a procedural amendment that will ensure that documents sent to the agency will be delivered to the agency.

IV. Effective Date

Section 30111(d) of title 49, United States Code, provides that a Federal motor vehicle safety standard may not become effective before the 180th day after the standard is prescribed or later than one year after it is prescribed except when a different effective date is, for good cause shown, in the public interest. This final rule is effective 180 days after publication of this final rule in the Federal Register. However, we will permit optional early compliance immediately.

V. Rulemaking Analyses and Notices

Executive Orders 12866 and 13563 and DOT Regulatory Policies and Procedures

The agency has considered the impact of this rulemaking action under Executive Orders 12866 and 13563 and the DOT's regulatory policies and procedures. This action was not reviewed by the Office of Management and Budget under Executive Order 12866. The agency has considered the impact of this action under the Department of Transportation's regulatory policies and procedures (44 FR 11034; February 26, 1979), and has determined that it is not “significant” under them.

This final rule increases slightly the stringency of an existing test applicable to T-type spare tires for passenger vehicles. The rulemaking will not affect the current costs of testing T-type tires to FMVSS No. 109's performance requirements. The minimal impacts of today's amendment do not warrant preparation of a regulatory evaluation.

Regulatory Flexibility Act

Pursuant to the Regulatory Flexibility Act (5 U.S.C. 601 et seq., as amended by the Small Business Regulatory Enforcement Fairness Act (SBREFA) of 1996), whenever an agency is required, except as provided below, to publish a notice of rulemaking for any proposed or final rule, it must prepare and make available for public comment a regulatory flexibility analysis that describes the effect of the rule on small entities (i.e., small businesses, small organizations, and small governmental jurisdictions). The Small Business Administration's regulations at 13 CFR part 121 define a small business, in part, as a business entity “which operates primarily within the United States.” (13 CFR 121.105(a)).

No regulatory flexibility analysis is required if the head of an agency certifies the rule will not have a significant economic impact on a substantial number of small entities. SBREFA amended the Regulatory Flexibility Act to require Federal agencies to provide a statement of the factual basis for certifying that a rule will not have a significant economic impact on a substantial number of small entities.

NHTSA has considered the effects of this final rule under the Regulatory Flexibility Act. I certify that this final rule will not have a significant economic impact on a substantial number of small entities. The final rule will affect tire manufacturers who manufacture T-type tires, none of which, according to the agency's knowledge, are small businesses. Even if there were a substantial number of small businesses manufacturing T-type tires, these entities would not be significantly affected by this final rule since, to the agency's knowledge, all currently manufactured T-type tires meet the new requirement. The rulemaking does not affect costs of testing T-type tires to FMVSS No. 109's performance requirements.

Executive Order 13609 (Promoting International Regulatory Cooperation)

The policy statement in section 1 of Executive Order 13609 provides, in part:

The regulatory approaches taken by foreign governments may differ from those taken by U.S. regulatory agencies to address similar issues. In some cases, the differences between the regulatory approaches of U.S. agencies and those of their foreign counterparts might not be necessary and might impair the ability of American businesses to export and compete internationally. In meeting shared challenges involving health, safety, labor, security, environmental, and other issues, international regulatory cooperation can identify approaches that are at least as protective as those that are or would be adopted in the absence of such cooperation. International regulatory cooperation can also reduce, eliminate, or prevent unnecessary differences in regulatory requirements.

This final rule would harmonize the inflation pressure NHTSA uses for the physical dimensions test with European and Japanese regulations covering T-type tires.

Executive Order 13132 (Federalism)

NHTSA has examined today's final rule pursuant to Executive Order 13132 (64 FR 43255, August 10, 1999) and concluded that no additional consultation with States, local governments, or their representatives is mandated beyond the rulemaking process. The agency has concluded that the rule does not have sufficient federalism implications to warrant either consultation with State and local officials or preparation of a federalism summary impact statement. The rule does not have “substantial direct effects on the States, on the relationship between the national government and the States, or on the distribution of power and the responsibilities among the various levels of government.”

Further, no consultation is needed to discuss the issue of preemption in connection with today's final rule. The issue of preemption can arise in connection with NHTSA rules in two ways.

First, the National Traffic and Motor Vehicle Safety Act contains an express preemption provision: “When a motor vehicle safety standard is in effect under this chapter, a State or a political subdivision of a State may prescribe or continue in effect a standard applicable to the same aspect of performance of a motor vehicle or motor vehicle equipment only if the standard is identical to the standard prescribed under this chapter.” 49 U.S.C. 30103(b)(1). It is this statutory command that unavoidably preempts State legislative and administrative law, not today's rulemaking, so consultation is unnecessary.

Second, the Supreme Court has recognized the possibility of implied preemption: In some instances, State requirements imposed on motor vehicle manufacturers, including sanctions imposed by State tort law, can stand as an obstacle to the accomplishment and execution of some of the NHTSA safety standards. When such a conflict is discerned, the Supremacy Clause of the Constitution makes the State requirements unenforceable. See Geier v. American Honda Motor Co., 529 U.S. 861 (2000).

NHTSA has considered the nature (e.g., the language and structure of the regulatory text) and purpose of today's final rule and does not foresee any potential State requirements that might conflict with it. Without any conflict, there could not be any implied preemption of state law, including state tort law.

National Environmental Policy Act

NHTSA has analyzed this rulemaking action for the purposes of the National Environmental Policy Act. The agency has determined that implementation of this action will not have any significant impact on the quality of the human environment.

Paperwork Reduction Act

Under the Paperwork Reduction Act of 1995 (PRA), a person is not required to respond to a collection of information by a Federal agency unless the collection displays a valid OMB control number. There is no information collection requirement associated with this final rule.

National Technology Transfer and Advancement Act

Section 12(d) of the National Technology Transfer and Advancement Act of 1995 (NTTAA), Public Law 104-113, (15 U.S.C. 272) directs the agency to evaluate and use voluntary consensus standards in its regulatory activities unless doing so would be inconsistent with applicable law or is otherwise impractical. Voluntary consensus standards are technical standards (e.g., materials specifications, test methods, sampling procedures, and business practices) that are developed or adopted by voluntary consensus standards bodies, such as the Society of Automotive Engineers. The NTTAA directs us to provide Congress (through OMB) with explanations when we decide not to use available and applicable voluntary consensus standards.

This final rule harmonizes FMVSS No. 109 with several voluntary consensus standards, including the T&RA 2008 Year Book standard,¹² the ETRTO standard,¹³ and the JATMA standard,¹⁴ all of which specify 60 psi or 420 kPa (or 4.2 bar) as the inflation pressure for measuring T-type tire dimensions. This final rule also harmonizes FMVSS No. 109 with ECE Regulation 30 and Japanese Safety Regulations, which currently require the physical dimensions test for T-type tires to be conducted at the tire's maximum permissible inflation pressure, 4.2 bar (420 kPa or 60 psi).

¹² The Tire & Rim Association, Inc., (T&RA), Year Book, 2008, Measuring Procedure for New Tires, at XIII.

¹³ European Tyre and Rim Technical Organization (ETRTO), Standards Manual, 2005. Table 11.2, Temporary Use Spare Tyres—T type, at P.22.

¹⁴ The Japan Automobile Tyre Manufacturers Association, Inc. (JATMA), Year Book (Tyre Standards), 2008. Section G-5, “Measuring Procedure for Tyres,” Note 1, at 0-4.

Executive Order 12988 (Civil Justice Reform)

With respect to the review of the promulgation of a new regulation, section 3(b) of Executive Order 12988, “Civil Justice Reform” (61 FR 4729, February 7, 1996) requires that Executive agencies make every reasonable effort to ensure that the regulation: (1) Clearly specifies the preemptive effect; (2) clearly specifies the effect on existing Federal law or regulation; (3) provides a clear legal standard for affected conduct, while promoting simplification and burden reduction; (4) clearly specifies the retroactive effect, if any; (5) adequately defines key terms; and (6) addresses other important issues affecting clarity and general draftsmanship under any guidelines issued by the Attorney General. This document is consistent with that requirement.

Pursuant to this Order, NHTSA notes as follows. The issue of preemption is discussed above. NHTSA notes further that there is no requirement that individuals submit a petition for reconsideration or pursue other administrative proceeding before they may file suit in court.

Unfunded Mandates Reform Act

Section 202 of the Unfunded Mandates Reform Act of 1995 (UMRA) requires federal agencies to prepare a written assessment of the costs, benefits, and other effects of proposed or final rules that include a Federal mandate likely to result in the expenditure by State, local, or tribal governments, in the aggregate, or by the private sector, of more than $100 million annually (adjusted for inflation with base year of 1995). Before promulgating a NHTSA rule for which a written statement is needed, section 205 of the UMRA generally requires the agency to identify and consider a reasonable number of regulatory alternatives and adopt the least costly, most cost-effective, or least burdensome alternative that achieves the objectives of the rule. The provisions of section 205 do not apply when they are inconsistent with applicable law. Moreover, section 205 allows the agency to adopt an alternative other than the least costly, most cost-effective, or least burdensome alternative if the agency publishes with the final rule an explanation of why that alternative was not adopted.

This final rule will not result in any expenditure by State, local, or tribal governments or the private sector. Thus, this final rule is not subject to the requirements of sections 202 and 205 of the UMRA.

Protection of Children From Environmental Health and Safety Risks

Executive Order 13045, “Protection of Children from Environmental Health and Safety Risks” (62 FR 19855, April 23, 1997), applies to any rule that: (1) Is determined to be “economically significant” as defined under Executive Order 12866, and (2) concerns an environmental, health, or safety risk that the agency has reason to believe may have a disproportionate effect on children. If the regulatory action meets both criteria, the agency must evaluate the environmental health or safety effects of the planned rule on children, and explain why the planned regulation is preferable to other potentially effective and reasonably feasible alternatives considered by the agency.

This final rule is not an economically significant regulatory action under Executive Order 12866. Consequently, no further analysis is required under Executive Order 13045.

Regulatory Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.regulations.gov.

List of Subjects in 49 CFR Part 571

Imports, Motor vehicle safety, Motor vehicles, Rubber and rubber products, and Tires.

In consideration of the foregoing, NHTSA hereby amends 49 CFR part 571 as follows:

PART 571—FEDERAL MOTOR VEHICLE SAFETY STANDARDS

1. The authority citation for part 571 of Title 49 continues to read as follows:

Authority: 49 U.S.C. 322, 30111, 30115, 30117, and 30166; delegation of authority at 49 CFR 1.95.

2. Section 571.109 is amended by

a. Removing the definition of CT in S3;

b. Revising S4.2.1(b), S4.2.2.2(b), the introductory text of S4.3.4, S4.4.1(a), and S4.4.1(b);

c. Redesignating Appendix A as “Appendix to § 571.109,” moving the appendix to the end of § 571.109 (following the tables to § 571.109), and revising the appendix; and

d. Revising Table I-C and Table II.

The revised and redesignated text, tables, and appendix read as follows:

§ 571.109 Standard No. 109; New pneumatic and certain specialty tires.

* * * * *

S4.2.1 * * *

(b) Its maximum permissible inflation pressure shall be either 32, 36, 40, or 60 psi, or 240, 280, 300, 340, or 350 kPa.

* * * * *

S4.2.2.2 * * *

(b) (For tires with a maximum permissible inflation pressure of 240, 280, 300, 340 or 350 kPa, or 60 psi) 7 percent or 10 mm (0.4 inches), whichever is larger.

* * * * *

S4.3.4 If the maximum inflation pressure of a tire is 240, 280, 300, 340, or 350 kPa, then:

* * * * *

S4.4.1 * * *

(a) Listed by manufacturer name or brand name in a document furnished to dealers of the manufacturer's tires, to any person upon request, and in duplicate to the Docket Section (No: NHTSA-2009-0117), National Highway Traffic Safety Administration, West Building, 1200 New Jersey Ave SE., Washington, DC 20590; or

(b) Contained in publications, current at the date of manufacture of the tire or any later date, of at least one of the following organizations:

Tire and Rim Association

The European Tyre and Rim Technical Organization

Japan Automobile Tyre Manufacturers Association, Inc.

Tyre and Rim Association of Australia

Associacao Latino Americana de Pneus e Aros (Brazil)

South African Bureau of Standards

* * * * *

Table I-C—For Radial Ply Tires
Size designation | Maximum permissible inflation: PSI: 32 | Maximum permissible inflation: PSI: 36 | Maximum permissible inflation: PSI: 40 | Maximum permissible inflation: kPa: 240 | Maximum permissible inflation: kPa: 280 | Maximum permissible inflation: kPa: 300 | Maximum permissible inflation: kPa: 340 | Maximum permissible inflation: kPa: 350
Below 160 mm:
(in-lbs) | 1,950 | 2,925 | 3,900 | 1,950 | 3,900 | 1,950 | 3,900 | 1,950
(joules) | 220 | 330 | 441 | 220 | 441 | 220 | 441 | 220
160 mm or above:
(in-lbs) | 2,600 | 3,900 | 5,200 | 2,600 | 5,200 | 2,600 | 5,200 | 2,600
(joules) | 294 | 441 | 588 | 294 | 588 | 294 | 588 | 294

* * * * *

Table II—Test Inflation Pressures
[Maximum permissible inflation pressure to be used for the following test]
Test type | psi: 32 | psi: 36 | psi: 40 | psi: 60 | kPa: 240 | kPa: 280 | kPa: 300 | kPa: 340 | kPa: 350
Physical dimensions | 24 | 28 | 32 | 60 | 180 | 220 | 180 | 220 | 180
Bead unseating, tire strength, and tire endurance | 24 | 28 | 32 | 52 | 180 | 220 | 180 | 220 | 180
High speed performance | 30 | 34 | 38 | 58 | 220 | 260 | 220 | 260 | 220

* * * * *

Appendix to § 571.109

Persons requesting the addition of new tire sizes not included in S4.4.1(b) organizations may, upon approval, submit five (5) copies of information and data supporting the request to the Vehicle Dynamics Division, Office of Crash Avoidance Standards, National Highway Traffic Safety Administration, West Building, 1200 New Jersey Ave. SE., Washington, DC 20590.

The information should contain the following:

1. The tire size designation, and a statement either that the tire is an addition to a category of tires listed in the tables or that it is in a new category for which a table has not been developed.

2. The tire dimensions, including aspect ratio, size factor, section width, overall width, and test rim size.

3. The load-inflation schedule of the tire.

4. A statement as to whether the tire size designation and load inflation schedule has been coordinated with the Tire and Rim Association, the European Tyre and Rim Technical Organization, the Japan Automobile Tyre Manufacturers Association, Inc., the Tyre and Rim Association of Australia, the Associacao Latino Americana de Pneus e Aros (Brazil), or the South African Bureau of Standards.

5. Copies of test data sheets showing test conditions, results and conclusions obtained for individual tests specified in § 571.109.

6. Justification for the additional tire sizes.

Issued on: January 4, 2013.
David L. Strickland,
Administrator.

[FR Doc. 2013-00938 Filed 1-16-13; 8:45 am]

BILLING CODE 4910-59-P